DEPARTMENT OF TRANSPORTATION

Federal Aviation Administration

14 CFR Part 39

[Docket No. FAA-2007-27151; Directorate Identifier 2006-NM-156-AD]

RIN 2120-AA64

Airworthiness Directives; McDonnell Douglas Model MD-10-10F and MD-10-30F Airplanes, Model MD-11 and MD-11F Airplanes, and Model 717-200 Airplanes

AGENCY: Federal Aviation Administration (FAA), Department of Transportation (DOT).

ACTION: Notice of proposed rulemaking (NPRM).

SUMMARY: The FAA proposes to supersede an existing airworthiness directive (AD) that applies to all McDonnell Douglas Model MD-10-10F and MD-10-30F airplanes, Model MD-11 and MD-11F airplanes, and Model 717-200 airplanes. The existing AD currently requires a revision to the Limitations section of the airplane flight manual (AFM) to prohibit use of the flight management system (FMS) profile (PROF) mode for descent and/or approach operations unless certain conditions are met. This proposed AD would require, for Model 717-200 airplanes, upgrading the versatile integrated avionics (VIA) digital computer with new system software, which would end the need for the AFM revision. This proposed AD results from a report of two violations of the selected flight control panel (FCP) altitude during FMS PROF descents. We are proposing this AD to prevent, under certain conditions during the FMS PROF descent, the uncommanded descent of an airplane below the selected level-off altitude, which could result in an unacceptable reduction in the separation between the airplane and nearby air traffic or terrain.

DATES: We must receive comments on this proposed AD by April 2, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for service information identified in this proposed AD.

FOR FURTHER INFORMATION CONTACT: Thomas Phan, Aerospace Engineer, Propulsion Branch, ANM-140L, FAA, Los Angeles Aircraft Certification Office, 3960 Paramount Boulevard, Lakewood, California 90712-4137; telephone (562) 627-5342; fax (562) 627-5210.

SUPPLEMENTARY INFORMATION:

Comments Invited

We invite you to submit any relevant written data, views, or arguments regarding this proposed AD. Send your comments to an address listed in the ADDRESSES section. Include the docket number “Docket No. FAA-2007-27151; Directorate Identifier 2006-NM-156-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On August 25, 2004, we issued AD 2004-18-04, amendment 39-13782 (69 FR 53794, September 21, 2004), for all McDonnell Douglas Model MD-10-10F and MD-10-30F airplanes, Model MD-11 and MD-11F airplanes, and Model 717-200 airplanes. That AD currently requires a revision to the Limitations section of the airplane flight manual (AFM) to prohibit use of the flight management system (FMS) profile (PROF) mode for descent and/or approach operations unless certain conditions are met. That AD resulted from a report of two violations of the selected flight control panel (FCP) altitude during FMS PROF descents. We issued that AD to prevent, under certain conditions during the FMS PROF descent, the uncommanded descent of an airplane below the selected level-off altitude, which could result in an unacceptable reduction in the separation between the airplane and nearby air traffic or terrain.

Actions Since Existing AD Was Issued

The preamble to AD 2004-18-04 explains that we consider the requirements “interim action” and that the manufacturer was developing a software modification to address the unsafe condition. That AD explained that we may consider further rulemaking if a modification is developed, approved, and available. The manufacturer now has developed such a modification for Model 717-200 airplanes, and we have determined that further rulemaking is indeed necessary; this proposed AD follows from that determination.

Other Relevant Rulemaking

On August 3, 2006, we issued AD 2006-16-15, amendment 39-14715 (71 FR 47707, August 18, 2006), for certain McDonnell Douglas Model MD-10-10F and MD-10-30F airplanes and all Model MD-11 and MD-11F airplanes. That AD currently requires installation of upgraded flight management computer (FMC) software. As specified in paragraph (n)(4) of that AD, doing the applicable software/hardware upgrades required by paragraph (j) or (k) of that AD is an alternative method of compliance for the corresponding actions required by AD 2004-18-04. Doing the upgrades specified in AD 2006-16-15 would also be an acceptable method of compliance for the actions in paragraph (f) of this proposed AD for the applicable airplanes.

Relevant Service Information

We have reviewed Boeing Service Bulletin 717-31-0013, dated March 25, 2005. The service bulletin describes procedures for upgrading the versatile integrated avionics (VIA) digital computer with new system software (part number (P/N) PS4081970-909) and in-service data acquisition system (ISDAS) database (DB) software (P/N PS4081642-909). The service bulletin refers to Honeywell Alert Service Bulletin 4081570-31-A6007, dated March 9, 2005, as an additional source of service information for doing the actions. Accomplishing the actions specified in the service information is intended to adequately address the unsafe condition.

FAA's Determination and Requirements of the Proposed AD

We have evaluated all pertinent information and identified an unsafe condition that is likely to develop on other airplanes of the same type design. For this reason, we are proposing this AD, which would supersede AD 2004-18-04 and would retain the requirements of the existing AD. This proposed AD would also require accomplishing the actions specified in Boeing Service Bulletin 717-31-0013 described previously.

Clarification of Alternative Method of Compliance (AMOC) Paragraph

We have revised this action to clarify the appropriate procedure for notifying the principal inspector before using any approved AMOC on any airplane to which the AMOC applies.

Costs of Compliance

There are about 369 airplanes of the affected design in the worldwide fleet. The following table provides the estimated costs for U.S. operators to comply with this proposed AD. The parts manufacturer states that it will supply required parts to the operators at no cost.

Estimated Costs
Action | Work hours | Average labor rate per hour | Cost per airplane | Number of U.S.-registered airplanes | Fleet cost
AFM Revision (required by AD 2004-18-04) | 1 | $80 | $80 | 226 | $18,080
Software upgrade for Model 717-200 airplanes (new proposed action) | 1 | $80 | $80 | 109 | $8,720

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13782 (69 FR 53794, September 21, 2004) and adding the following new airworthiness directive (AD):

McDonnell Douglas: Docket No. FAA-2007-27151; Directorate Identifier 2006-NM-156-AD.

Comments Due Date

(a) The FAA must receive comments on this AD action by April 2, 2007.

Affected ADs

(b) This AD supersedes AD 2004-18-04.

Applicability

(c) This AD applies to all McDonnell Douglas Model MD-10-10F and MD-10-30F airplanes, Model MD-11 and MD-11F airplanes, and Model 717-200 airplanes, certificated in any category.

Unsafe Condition

(d) This AD results from a report of two violations of the selected flight control panel (FCP) altitude during flight management system (FMS) profile (PROF) descents. We are issuing this AD to prevent, under certain conditions during the FMS PROF descent, the uncommanded descent of an airplane below the selected level-off altitude, which could result in an unacceptable reduction in the separation between the airplane and nearby air traffic or terrain.

Compliance

(e) You are responsible for having the actions required by this AD performed within the compliance times specified, unless the actions have already been done.

Restatement of Requirements of AD 2004-18-04

Airplane Flight Manual (AFM) Revision

(f) Within 90 days after September 20, 2004 (the effective date of AD 2004-18-04), revise the Limitations section of the AFM to include the following statement. This may be done by inserting a copy of this AD in the AFM. Doing the applicable software upgrade specified in paragraph (g) of this AD (for Model 717-200 airplanes), paragraph (j) of AD 2006-16-15, amendment 39-14715 (for Model MD-11 and MD-11F airplanes), or paragraph (k) of AD 2006-16-15 (for Model MD-10-10F and MD-10-30F airplanes), terminates the requirements of this paragraph for that airplane. For airplanes on which the applicable software upgrade has been done, the AFM revision may be removed.

“Use of PROF mode for descent and/or approach operations is prohibited unless

1. The airplane is on path and the FMA indicates THRUST │xxx│ PROF, or

2. The indicated airspeed is below Vmax for the airplane configuration by at least:

a. 10 knots at indicated altitudes below 10,000 feet, or

b. 15 knots at indicated altitudes of 10,000 feet or above, or

3. Basic autoflight modes (e.g., LVL CHG, V/S, or FPA) are used to recapture the path when the PROF mode is engaged and the airplane is:

a. Above or below the path and the FMA indicates PITCH │xxx│ IDLE, or

b. Below the path and the FMA indicates THRUST │xxx│ V/S.”

Note 1: When a statement identical to that in paragraph (f) of this AD has been included in the general revisions of the AFM, the general revisions may be inserted into the AFM, and the copy of this AD may be removed from the AFM.

New Requirements of This AD

Upgrade Software—Model 717-200 Airplanes

(g) For Model 717-200 airplanes: Within 18 months after the effective date of this AD, upgrade the versatile integrated avionics (VIA) digital computer with new system software (part number (P/N) PS4081970-909) and in-service data acquisition system (ISDAS) database (DB) software (P/N PS4081642-909), in accordance with the Accomplishment Instructions of Boeing Service Bulletin 717-31-0013, dated March 25, 2005. Doing this upgrade terminates the requirements of paragraph (f) of this AD for that airplane only.

Note 2: Boeing Service Bulletin 717-31-0013, dated March 25, 2005, refers to Honeywell Alert Service Bulletin 4081570-31-A6007, dated March 9, 2005, as an additional source of service information for doing the actions specified in paragraph (g) of this AD.

Parts Installation

(h) For Model 717-200 airplanes: As of the effective date of this AD, no person may install a VIA digital computer, P/N 4081570-904, -905, -906, or -907, on any airplane, except as required by the actions specified in paragraph (g) of this AD.

Alternative Methods of Compliance (AMOCs)

(i)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on February 1, 2007.
Ali Bahrami,
Manager, Transport Airplane Directorate, Aircraft Certification Service.

[FR Doc. E7-2524 Filed 2-13-07; 8:45 am]

BILLING CODE 4910-13-P